SMALL BUSINESS ADMINISTRATION

[Declaration of Disaster #3523]

State of North Carolina

Mecklenburg County and the contiguous counties of Cabarrus, Gaston, Iredell, Lincoln, and Union in the State of North Carolina, and Lancaster and York in the State of South Carolina constitute a disaster area due to damages caused by severe storms and flooding that occurred on June 7-8, 2003. Applications for loans for physical damage as a result of this disaster may be filed until the close of business on September 15, 2003 and for economic injury until the close of business on April 15, 2004 at the address listed below or other locally announced locations:

U.S. Small Business Administration, Disaster Area 2 Office, One Baltimore Place, Suite 300, Atlanta, GA 30308.

The interest rates are:

| Percent
For Physical Damage:
Homeowners with credit available elsewhere | 5.625
Homeowners without credit available elsewhere | 2.812
Businesses with credit available elsewhere | 5.906
Businesses and non-profit organizations without credit available elsewhere | 2.953
Others (including non-profit organizations) with credit available elsewhere | 5.500
For Economic Injury:
Businesses and small agricultural cooperatives without credit available elsewhere | 2.953

The numbers assigned to this disaster for physical damage are 352311 for North Carolina and 352411 for South Carolina. For economic damage, the numbers are 9W2600 for North Carolina and 9W2700 for South Carolina.

(Catalog of Federal Domestic Assistance Program Nos. 59002 and 59008.)
Dated: July 15, 2003.
Hector V. Barreto,
Administrator.

[FR Doc. 03-18583 Filed 7-21-03; 8:45 am]

BILLING CODE 8025-01-P